ENVIRONMENTAL PROTECTION AGENCY

40 CFR Part 180

[EPA-HQ-OPP-2016-0236; FRL-9954-47]

Bifenthrin; Pesticide Tolerances for Emergency Exemptions

Correction

In rule document 2016-29882, appearing on pages 93824-93831, in the Issue of Thursday, December 22, 2016, make the following correction:

On page on page 93827, in the second column, in the last line “(≤15% CT)” should be “(>15% CT)”.

[FR Doc. C2-2016-29882 Filed 6-1-17; 8:45 am]

BILLING CODE 6560-50-P